DEPARTMENT OF TRANSPORTATION

Federal Highway Administration

Notice of Final Federal Agency Actions on Proposed Highway in Utah

AGENCY: Utah Department of Transportation (UDOT); Federal Highway Administration (FHWA), Department of Transportation.

ACTION: Notice of limitations on claims for judicial review of actions by UDOT and other Federal agencies.

SUMMARY: The FHWA, on behalf of UDOT, is issuing this notice to announce actions taken by UDOT that are final Federal agency actions. The final agency actions relate to design modifications to a planned and approved highway project, the West Davis Corridor project in Davis County, Utah, and more specifically to UDOT's re-evaluation of the Environmental Impact Statement and Section 4(f) Evaluation for the project in light of design modifications to the system interchange by which the West Davis Corridor project (State Route 67) will connect with Interstate 15 (I-15) and Legacy Parkway. Those actions grant licenses, permits and/or approvals for the project.

DATES: By this notice, FHWA, on behalf of UDOT, is advising the public of final agency actions subject to 23 U.S.C. 139(l)(1). A claim seeking judicial review of these Federal agency actions on the highway project will be barred unless the claim is filed on or before September 28, 2020. If the Federal law that authorizes judicial review of a claim provides a time period of less than 150 days for filing such claim, then that shorter time period still applies.

FOR FURTHER INFORMATION CONTACT: Elisa Albury, Environmental Program Manager, UDOT Environmental Services, P.O. Box 143600, Salt Lake City, UT 84114; (801)-965-4000; email: ealbury@utah.gov. UDOT's normal business hours are 8 a.m. to 5 p.m. (Mountain Time Zone), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. FHWA maintained responsibility of the environmental review process of the West Davis Corridor project until its issuance of a Record of Decision (ROD). UDOT is responsible for conducting any additional environmental reviews (including re-evaluations) that are required for the West Davis Corridor project following the issuance of the ROD. Actions taken by UDOT on FHWA's behalf pursuant to 23 U.S.C. 327 constitute Federal agency actions for purposes of Federal law. Notice is hereby given that UDOT has taken final agency actions subject to 23 U.S.C. 139(l)(1) by issuing licenses, permits, and approvals for a modification of the West Davis Corridor project in the State of Utah.

On June 23, 2017, FHWA approved the Final Environmental Impact Statement and Section 4(f) Evaluation (EIS) for the West Davis Corridor Project, and on September 29, 2017 FHWA issued a ROD approving the project. On October 6, 2017, FHWA published notice of the EIS and ROD in the Federal Register triggering the 150-day statute of limitations under 23 U.S.C. 139(l)(1) for the project. The project is included in UDOT's adopted 2020-2025 State Transportation Improvement Plan (STIP) as project number 11268 and is scheduled for right of way acquisition and construction to begin in fiscal year 2020, being let as a design-build contract. The project is also included in the Wasatch Front Regional Council's 2019—2050 Regional Transportation Plan.

UDOT has now updated the design of the system interchange at the south end of the project by which the West Davis Corridor project (State Route 67) will interconnect with I-15 and Legacy Parkway to accommodate a planned widening of I-15 by one lane in each direction. With the planned widening of I-15, it was not possible to have the ramp connections as identified in the Selected Alternative in the EIS and ROD without either 1) having substantial impacts to the residential areas of Farmington and Centerville east of the Frontage Road or 2) relocating the Union Pacific Railroad tracks. To minimize costs and impacts while accommodating a planned additional lane in each direction on I-15, the design of the system interchange described in the Selected Alternative has been refined to have the ramp from southbound West Davis Corridor to southbound I-15 parallel Legacy Parkway for approximately 0.3 mile and then cross Legacy Parkway and the Union Pacific Railroad tracks before merging onto I-15 near 1800 North in Centerville (approximately 0.7 mile south of the EIS Selected Alternative's southbound I-15 merge). The design of the Legacy Parkway Trail in the area of the system interchange has also been refined.

These changes to the Selected Alternative are referred to as the Refined Selected Alternative and are the subject of, and are described in more detail in, UDOT's April 8, 2020 EIS re-evaluation (UDOT Project Number S-0067(14)0, S.R. 67, West Davis Corridor; WDC/I-15/Legacy Parkway System Interchange in Davis County, Utah (PIN 7176) Environmental Impact Statement Re-evaluation #13)(EIS Re-evaluation).

The actions by UDOT, and the laws under which such actions were taken, are described in the EIS Re-evaluation and other documents in the UDOT project records. The EIS Re-evaluation is available for review by contacting UDOT at the address provided above. This notice applies to the EIS Re-evaluation, the Section 4(f) determination, the NHPA Section 106 review, the Endangered Species Act determination, the noise review and noise abatement determination, and all other UDOT and federal agency decisions and other actions with respect to the EIS Re-evaluation and the Refined Selected Alternative as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f) -300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; [23 U.S.C. 109(h) & (i)].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139 (l)(1))

Dated: April 24, 2020.
Ivan Marrero,
Division Administrator, Federal Highway Administration, Salt Lake City, Utah.

[FR Doc. 2020-09283 Filed 4-30-20; 8:45 am]

BILLING CODE 4910-RY-P